DEPARTMENT OF COMMERCE

National Oceanic and Atmospheric Administration

Notice of Availability for Public Comment on the Draft Joint Subcommittee on Ocean Science and Technology Interagency Working Group on Ocean Observation Integrated Ocean Observing System Strategic Plan

AGENCY: National Ocean Service (NOS), National Oceanic and Atmospheric Administration (NOAA), U.S. Department of Commerce.

ACTION: Notice of availability; request for comments.

SUMMARY: The NOAA Integrated Ocean Observing System Program (IOOS) Program publishes this notice on behalf of the Joint Subcommittee on Ocean Science and Technology—Interagency Working Group on Ocean Observation's (JSOST-IWGOO) to announce a 30-day public comment period for the five-year IOOS Strategic Plan. This five-year vision for IOOS will be used by the IWGOO to build an implementation plan that will describe in more detail the roles and responsibilities that will be undertaken by the interagency members.

DATES: Written, faxed or emailed comments must be received no later than 5 p.m. eastern standard time on April 4, 2008.

ADDRESSES: The JSOST-IWGOO IOOS Strategic Plan is available for review from Ocean.US Web site URL: http://www.ocean.us/IWGOO/SPcomments. For the public unable to access the internet, printed copies can be requested by contacting the IWGOO Executive Secretariat at the address below. The public is encouraged to submit comments electronically to strategic_comments@IWGOO.net. If you are unable to access the internet, comments may be submitted via fax or regular mail. Faxed comments should be sent to 301-427-2073. Comments may be submitted in writing to the NOAA IOOS Program Office, Attention: IWGOO Executive Secretariat, 1100 Wayne Avenue, Suite 1225, Silver Spring, Maryland 20910.

FOR FURTHER INFORMATION CONTACT: For further information about this notice, please contact the IWGOO Executive Secretariat, telephone: 301-427-2439; E-mail: strategic_comments@IWGOO.net.

SUPPLEMENTARY INFORMATION: The U.S. Ocean Action Plan (2004), in response to strong recommendations of the U.S. Commission on Ocean Policy (2004) and building on and complementing the work of past and current interagency efforts to build IOOS, establishes a comprehensive mechanism in the executive branch for coordinating ocean policy at the federal level. The Committee on Ocean Policy (COP) was established by Executive Order 13366 to function as this coordinating mechanism. To support its efforts, the COP established the Interagency Committee on Ocean Science and Resource Management Integration (ICOSRMI) to facilitate and coordinate, recommend, and identify opportunities on a broad array of ocean science issues. In April 2007, ICOSRMI and the National Ocean Research Leadership Council (NORLC) established by the National Ocean Partnership Program (10 U.S.C. 7981-7983) jointly agreed that future actions taken by ICOSRMI related to the NOPP would be deemed actions of the NORLC for the purpose of maintaining interagency progress. This relationship combines the executive-legislative set of mechanisms to provide the essential organizational structures including coordination of IOOS issues at all levels of the federal government.

The IWGOO, established under JSOST to lead the interagency planning and coordination of ocean observing activities including IOOS, is represented by seventeen federal agencies, which NOAA was identified as the lead federal agency by the Administration. As defined in the charter, the purpose of the IWGOO is to advise and assist JSOST on matters relating to all aspects of ocean observations within the scope of an end-to-end concept of ocean observations.

The IWGOO IOOS Strategic Plan is a five-year vision for the IOOS that builds on the IOOS development plan, addendum, and its predecessor documents for the U.S. IOOS that characterizes the areas of highest priority for the U.S. contribution to the Global Earth Observation System of Systems (GEOSS).

John H. Dunnigan,
Chair, Interagency Working Group on Ocean Observations; Assistant Administrator, National Ocean Service, National Oceanic and Atmospheric Administration.

[FR Doc. E8-4693 Filed 3-10-08; 8:45 am]

BILLING CODE 3510-22-P